DEPARTMENT OF ENERGY

Civil Nuclear Credit Program: Draft Guidance for the Second Award Period

AGENCY: Grid Deployment Office, Department of Energy.

ACTION: Notice of availability of draft guidance; request for comments.

SUMMARY: The U.S. Department of Energy (DOE) invites public comment on its draft Guidance for the Second Award Period for the Civil Nuclear Credit (CNC) Program authorized under of the Infrastructure Investment and Jobs Act (IIJA). The draft Guidance describes the timelines, deliverables, and other program requirements for owners or operators of eligible nuclear reactors that are projected to cease operations due to economic factors to submit certification applications to become certified, and instructions on formulating and submitting sealed bids to receive credit allocations.

DATES: Comments regarding this draft Guidance must be received on or before November 4, 2022.

ADDRESSES: Interested parties may submit comments by any of the following methods:

1. Email: rfi-cnc@nuclear.energy.gov (Strongly Preferred). Submit electronic comments in Microsoft Word or PDF file format and avoid the use of special characters or any form of encryption. Please include “Response to Notice of Availability” in the subject line.

2. Online: Submit electronic public comments to www.regulations.gov. Click on the “Comment” icon, complete the required fields, and enter or attach your comments.

Instructions: All submissions received must include the Department of Energy as the agency name for this document. No facsimiles (faxes), postal mail, or hand deliver/courier will be accepted. Any information that may be business proprietary and exempt by law from public disclosure should be submitted as described.

FOR FURTHER INFORMATION CONTACT: For more information regarding the CNC Program draft Guidance please contact Kelly Lefler, (202) 586-4316, rfi-cnc@nuclear.energy.gov.

SUPPLEMENTARY INFORMATION:

Background

Section 40323 of the Infrastructure Investment and Jobs Act (IIJA), Public Law 117-58, codified at 42 U.S.C. 18753, directs the Secretary of Energy to establish a CNC Program to evaluate and certify nuclear reactors that are projected to cease operations due to economic factors and to allocate credits to selected certified nuclear reactors via a sealed bid process.

DOE is seeking public comment on the draft Guidance for the CNC Program's second award period, found at https://www.energy.gov/gdo/civil-nuclear-credit-second-award-cycle. The draft Guidance describes the program eligibility and certification criteria and bid submission requirements, including the certification and bidding processes.

Business Proprietary Information

Pursuant to 10 CFR 1004.11, any person submitting information he or she believes to be business proprietary and exempt by law from public disclosure should submit via email two well-marked copies: One copy of the document marked “Business Proprietary” including all the information believed to be proprietary, and one copy of the document marked “non-Proprietary” deleting all information believed to be business proprietary. DOE will make its own determination about the business proprietary status of the information and treat it accordingly. Factors of interest to DOE when evaluating requests to treat submitted information as business proprietary include: (1) A description of the items; (2) whether and why such items are customarily treated as business proprietary within the industry; (3) whether the information is generally known by or available from other sources; (4) whether the information has previously been made available to others without obligation concerning its business proprietary nature; (5) an explanation of the competitive injury to the submitting person which would result from public disclosure; (6) when such information might lose its business proprietary character due to the passage of time; and (7) why disclosure of the information would be contrary to the public interest.

Signing Authority

This document of the Department of Energy was signed on September 30, 2022, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 30, 2022.
Treena V. Garrett,
Federal Register Liaison Officer, U.S. Department of Energy.

[FR Doc. 2022-21669 Filed 10-5-22; 8:45 am]

BILLING CODE 6450-01-P